DEPARTMENT OF HOMELAND SECURITY

Coast Guard

33 CFR Part 100

[Docket No. USCG-2008-0891]

Regattas and Marine Parades; Great Lakes Annual Marine Events

AGENCY: Coast Guard, DHS.

ACTION: Notice of enforcement of regulation.

SUMMARY: The Coast Guard will enforce two local regulations for annual regattas and marine parades in the Captain of the Port Detroit zone. The “Detroit Belle Isle Gran Prix” regulated area will be enforced from 7:30 a.m. to 7:30 p.m. on August 29, 30, and 31, 2008. “The Old Club Cannonade” regulated area will be enforced from 1:30 p.m. to 4:30 p.m. on October 18, 2008. This action is necessary and intended to ensure safety of life on the navigable waters immediately prior to, during, and immediately after regattas or marine parades. During the enforcement periods, no person or vessel may enter the regulated areas without permission of the Captain of the Port or the Coast Guard Patrol Commander.

DATES: The regulated area described in 33 CFR 100.912 will be enforced from 7:30 a.m. to 7:30 p.m. on August 29, 30, and 31, 2008. The regulated area described in 33 CFR 100.917 will be enforced from 1:30 p.m. to 4:30 p.m. on October 18, 2008.

FOR FURTHER INFORMATION CONTACT: CDR Joseph Snowden, Prevention, U.S. Coast Guard Sector Detroit, 110 Mount Elliot Ave., Detroit, MI 48207; (313) 568-9580.

SUPPLEMENTARY INFORMATION: The Coast Guard will enforce the special local regulation for the annual Detroit Belle Isle Gran Prix, Detroit, MI, in 33 CFR 100.912 on August 29, 30, and 31, 2008, from 7:30 a.m. until 7:30 p.m. The Coast Guard will enforce the special local regulation for the annual Old Club Cannonade, Harsens Island, MI, in 33 CFR 100.917 on October 18, 2008, from 1:30 p.m. until 4:30 p.m.

Under the provisions of 33 CFR 100.912 and 33 CFR 100.917 no vessel may enter, transit through, or anchor within the regulated areas without the permission of the Captain of the Port or the Coast Guard Patrol Commander.

The “Coast Guard Patrol Commander” is any Coast Guard commissioned, warrant, or petty officer who has been designated by the Captain of the Port to act on his behalf. The Coast Guard Patrol Commander will be aboard either a Coast Guard or Coast Guard Auxiliary vessel. The Captain of the Port or the Coast Guard Patrol Commander may be contacted via VHF Channel 16.

Vessel operators given permission to enter or operate in the regulated areas must comply with all directions given to them by the Captain of the Port or the Coast Guard Patrol Commander.

This notice is issued under authority of 33 CFR 100.912, 33 CFR 100.917, and 5 U.S.C. 552(a). In order to ensure the safety of spectators and transiting vessels, these regulated areas will be in effect for the duration of the events. In the event that these regulated areas affect shipping, commercial vessels may request permission from the Captain of the Port or the Coast Guard Patrol Commander to transit through the regulated area. Requests must be made in advance and approved by the Captain of Port or the Coast Guard Patrol Commander before transits will be authorized. The Captain of the Port or the Coast Guard Patrol Commander may be contacted via U.S. Coast Guard Sector Detroit on channel 16, VHF-FM. The Coast Guard will give notice to the public via a Broadcast to Mariners that the regulation is in effect.

Dated: August 25, 2008.
F.M. Midgette,
Captain, U.S. Coast Guard, Captain of the Port Detroit.

[FR Doc. E8-20308 Filed 8-29-08; 8:45 am]

BILLING CODE 4910-15-P